DEPARTMENT OF EDUCATION

Office of Special Education and Rehabilitative Services; Overview Information; Technical Assistance and Dissemination To Improve Services and Results for Children With Disabilities—Center on Response To Intervention; Notice Inviting Applications for New Awards for Fiscal Year (FY) 2007

Catalog of Federal Domestic Assistance (CFDA) Number: 84.326E.

Dates: Applications Available: March 20, 2007.

Deadline for Transmittal of Applications: May 4, 2007.

Deadline for Intergovernmental Review: July 3, 2007.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: $2,830,000.

Maximum Award: We will reject any application that proposes a budget exceeding $2,830,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: This program promotes academic achievement and improves results for children with disabilities by supporting technical assistance, model demonstration projects, dissemination of useful information, and implementation activities that are supported by scientifically-based research.

Priority: In accordance with 34 CFR 75.105(b)(2)(v), this priority is from allowable activities specified in the statute (see sections 663 and 681(d) of the Individuals with Disabilities Education Act (IDEA)).

Absolute Priority: For FY 2007 this priority is an absolute priority. Under 34 CFR 75.105(c)(3), we consider only applications that meet this priority.

This priority is:

Center on Response to Intervention

Background

Response to Intervention (RTI) involves maximizing student achievement by monitoring student progress to make data-based instructional decisions for students. While RTI varies in its methodologies, a common model is based on implementation of universal, secondary, and tertiary interventions (Kamps & Greenwood, 2005; Fuchs & Fuchs, 2006; Vaughn, 2003). Universal interventions involve providing high quality core instruction to students in regular education classrooms. Secondary interventions involve more intensive small group instruction, and tertiary interventions are even more intensive and are often provided by an interventionist or special educator.

One of the many benefits of RTI is early identification of students who experience academic or behavioral difficulties. Experts in the field have reached consensus regarding the need to identify children with academic and behavioral difficulties at an early age. Early intervention with these students can either eliminate the need for special education or at least reduce the intensity of the services required. A National Research Council (NRC) report (Donovan & Cross, 2002) confirmed that intervening early, specifically in reading and behavior management, is associated with reduced placement rates of students in special education programs. Specifically, it was found that placement rates in special education were lower in schools where effective reading programs or strong classroom management programs existed than in schools where such programs did not exist. The report concluded that the effectiveness of early intervention was greater than the cumulative effectiveness of interventions provided to students after they had experienced years of failure.

RTI is currently being used and investigated in regular and special education classrooms and is demonstrating promise as a means for early identification of children with disabilities, particularly specific learning disabilities (SLD), as well as students who are at risk of either or both academic or behavioral disabilities (Kamps & Greenwood, 2005; Fuchs & Fuchs, 2006; Vaughn, 2003). RTI also holds promise for children from some racial and ethnic backgrounds who are not progressing in the general education curriculum. Data from the National Assessment of Educational Progress (NAEP) indicate that students from certain racial and ethnic backgrounds continue to lag behind other students in English, math, and science (Lee, 2006). Over time, the disparity in progress may lead to over-identification or disproportionate representation of this group of students for special education services (Donovan & Cross, 2002). Preliminary data indicate that RTI may reduce the number of instances of inappropriately identified students who are from certain racial or ethnic backgrounds or who are limited-English proficient for special education services (Kamps & Greenwood, 2005; Kamps, Wills, Greenwood, Thorne, Lazo, Crockett, McGonigle, & Swaggart, 2003).

The 2004 amendments to IDEA amended section 613(f) to allow local educational agencies (LEAs) to use up to 15 percent of their Part B funding for early intervening services to support students who struggle academically or behaviorally in a general education environment, but who have not been identified for special education. Additionally, LEAs that significantly over-identify children from particular racial or ethnic backgrounds for special education services must use the maximum amount of their IDEA funding available for early intervening services to provide comprehensive, coordinated early intervening services to children, particularly children in groups that were significantly over-identified (see section 618(d)(2)(B) of IDEA).

Amendments made to IDEA by the Individuals with Disabilities Education Improvement Act of 2004 also explicitly authorize the use of response to scientifically-based research interventions to identify students with SLD. The amendments removed a requirement to find discrepancies between achievement and intellectual ability before identifying a student as having SLD. This requirement often precluded early identification of children in need of special education.

References

Donovan, S. & Cross, C. (2002). Minority students in special and gifted education. Washington, D.C.: National Academy Press.

Fuchs, D. & Fuchs, L.S. (2006). Introduction to response to intervention: What, why, and how valid is it? Reading Research Quarterly, 41, 92-99.

Kamps, D., & Greenwood, C. R. (2005). Formulating secondary-level reading interventions. Journal of Learning Disabilities, 38, 500-509.

Kamps, D., Wills, H., Greenwood, C., Thorne, S., Lazo, J., Crockett, J., McGonigle, J., & Swaggart, B. (2003). Curriculum influences on growth in early reading fluency for students with academic and behavioral risks: A descriptive study. Journal of Emotional and Behavioral Disorders, 11, 211-224.

Lee, J. (2006). Tracking Achievement Gaps and Assessing the Impact of NCLB on the Gaps: An In-depth Look into National and State Reading and Math Outcome Trends. Retrieved June 27, 2006, from The Civil Rights Project Harvard University Web site: http://www.civilrightsproject.harvard.edu/research/esea/nclb_naep_lee.pdf.

Vaughn, S. (2003). How many tiers are needed for response to intervention to achieve acceptable prevention outcomes. Retrieved May 14, 2006, from The National Research Center on Learning Disabilities Web site: http://www.nrcld.org/symposium2003/vaughn/vaughn.pdf.

Priority

The Assistant Secretary establishes an absolute priority for a Center on Response to Intervention (Center) to (a) identify, adapt, evaluate, and scale-up RTI models for identifying and serving children with disabilities, particularly SLD; (b) provide technical assistance and disseminate information to SEAs and LEAs to implement comprehensive RTI programs in LEAs and schools; and (c) disseminate information on RTI to parents, service providers, policymakers, and others. SEAs must be the primary targets for the technical assistance activities of the Center. The Center must support States to help them develop the capacity to provide technical assistance to LEAs.

Demonstrated Expertise of Key Staff

To be considered for funding under this priority, an applicant must demonstrate that key staff responsible for fulfilling the activities of the Center have expertise in (a) scientifically-based research practices associated with SLD identification; (b) the use and implementation of RTI and all its components, including screening, progress monitoring, data-based decision-making, procedural safeguards, and multi-tiered interventions; and (c) issues related to disproportionate representation of children based on race or ethnicity. Expertise in these areas may be demonstrated by having refereed publications on respective topics. An applicant may use a team-based approach across sites to capitalize on the knowledge, experience, and qualifications of various key staff who will be responsible for providing technical assistance and disseminating information to SEAs and LEAs. The Assistant Secretary anticipates that this Center will build on the expertise and resources of previously and currently supported Department of Education technical assistance centers, such as the National Research Center on Learning Disabilities (NRCLD), the National Center on Student Progress Monitoring (NCSPM), the Research Institute on Progress Monitoring (RIPM), the National Center for Culturally Responsive Educational Systems (NCCRESt), the Center on Instruction (COI), the Access Center, and the Individuals with Disabilities Education Act 2004-Research for Inclusive Settings (IRIS) Center.

Requirements

To meet the requirements of this priority, the Center, at a minimum, must—

(a) Identify, adapt, evaluate, and scale up evidence-based, school-wide RTI models that identify and serve children with disabilities, particularly SLD, and children at risk of developing a disability, to use as a basis for providing technical assistance to SEAs and LEAs. These models also must be evaluated on the extent to which the models reduce over-identification for special education services based on race or ethnicity and of students who are limited-English proficient;

(b) Assist SEAs in developing the capacity to support local implementation of RTI models that provide comprehensive, coordinated early intervening services to students who are experiencing either or both academic or behavioral difficulties, especially in LEAs that are required to provide early intervening services because of significant disproportionality of students based on race or ethnicity;

(c) Provide technical assistance and disseminate information to SEAs and LEAs on implementing scientifically-based practices for using RTI to improve instruction for all students and identify students with SLD;

(d) Assist SEAs to provide technical assistance to enable LEAs to provide comprehensive, coordinated early intervening services, such as RTI, particularly to LEAs that are required to provide early intervening services because of significant disproportionality of students based on race or ethnicity required under section 618(d) of IDEA;

(e) Communicate, coordinate, and collaborate with the NRCLD, NCSPM, COI, RIPM, NCCRESt, Access Center, IRIS, and progress monitoring model demonstration projects funded under the Technical Assistance and Dissemination to Improve Services and Results for Children with Disabilities program to summarize and proactively disseminate reports and documents on research findings and related topics to inform policy and practice related to RTI, including early intervening services to decrease over-identification or disproportionate representation in special education of students based on race or ethnicity;

(f) Communicate, coordinate, and collaborate with the appropriate OSEP-funded centers identified in this priority to develop and disseminate information on RTI, progress monitoring, secondary and tertiary educational and behavioral interventions, and other pertinent matters;

(g) Communicate, coordinate, and collaborate with appropriate OSEP-funded centers identified in this priority to develop and disseminate information for professional development on scientifically-based models of RTI that include progress monitoring for teachers and other school staff;

(h) Conduct national and regional meetings, in collaboration with other centers, to assist SEAs and LEAs in implementing RTI models to provide early intervening services, especially in LEAs with significant disproportionality, and to identify children with SLD;

(i) Coordinate with the NRCLD, NCSPM, RIPM, NCCRESt, and Access Center as these projects end to transfer their key responsibilities to the Center and integrate the content from their Web sites to the Center's Web site;

(j) Maintain communication and collaboration with other technical assistance centers and organizations, e.g., Regional Comprehensive Centers, NCLB-IDEA Partnership Project, Regional Resource Centers, and Federal Resource Center, National Association of State Directors of Special Education, Council of Chief State School Officers, Council for Exceptional Children, 100 Black Men of America, National Association for Bilingual Education, and others as appropriate;

(k) Provide funding to at least two graduate or doctoral level students who have concentrations in special education, learning disabilities, or other related areas that have been approved by the Office of Special Education Programs (OSEP) to assist with project related activities; and

(l) Address the needs for information on RTI for all stakeholders including parents, service providers, policy makers, and administrators at the national, State, and local levels through dissemination activities that include the maintenance of a Web site. This Web site must be maintained in a format that meets a government or industry recognized standard for accessibility.

Additional Requirements

The Center also must—

(1) Establish, maintain, and meet at least annually with an advisory committee consisting of representatives of SEAs, LEAs, individuals with disabilities, parents, educators, professional organizations and advocacy groups, researchers, and other appropriate groups to review and advise on the Center's activities and plans. The committee must include membership that represents urban schools. The final advisory committee will be jointly selected by OSEP and the Center;

(2) Budget annually for attendance at a three-day Project Director's meeting in Washington, DC and for a two-day trip to Washington, DC to attend an additional Project Director's meeting and to meet and collaborate with the OSEP Project Officer and other funded projects for purposes of cross-project collaboration and information exchange;

(3) Budget for at least a monthly trip to attend appropriate meetings convened by the Department of Education and other centers and organizations; and

(4) Budget five percent of the grant amount annually to support emerging needs as identified jointly through consultation with the OSEP Project Officer.

Fourth and Fifth Years of Project: In deciding whether to continue funding the Center for the fourth and fifth years, the Secretary will consider the requirements of 34 CFR 75.253(a) and in addition—

(a) The recommendation of a review team consisting of experts selected by the Secretary. This review team will convene in Washington, DC during the last half of the project's second year. Projects must budget for travel expenses associated with this one-day intensive review;

(b) The timeliness and effectiveness with which all requirements of the negotiated cooperative agreement have been or are being met by the Center; and

(c) Evidence of the degree to which the Center's activities have contributed to changed practices and improved outcomes for children with disabilities and children at risk of developing a disability.

Waiver of Proposed Rulemaking: Under the Administrative Procedure Act (APA) (5 U.S.C. 553), the Department generally offers interested parties the opportunity to comment on proposed priorities. However, section 681(d) of IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $2,830,000.

Maximum Award: We will reject any application that proposes a budget exceeding $2,830,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326E.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 70 pages, using the following standards:

• A “page” is 8.5” x 11” (on one side only), with 1” margins (top, bottom, and sides).

• Double-space (no more than three lines per vertical inch) all text in the application narrative, including titles, headings, footnotes, quotations, references, and captions, as well as all text in charts, tables, figures, and graphs.

• Use a proportional font that is 12-point or larger, or a font that is no smaller than 10 pitch (characters per inch).

The page limit does not apply to Part I, the cover sheet; Part II, the budget section, including the narrative budget justification; Part IV, the assurances and certifications; or the one-page abstract, the resumes, the bibliography, references, or the letters of support. However, you must include all of the application narrative in Part III.

We will reject your application if—

• You apply these standards and exceed the page limit; or

• You apply other standards and exceed the equivalent of the page limit.

3. Submission Dates and Times:

Applications Available: March 20, 2007.

Deadline for Transmittal of Applications: May 4, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under For Further Information Contact.

Deadline for Intergovernmental Review: July 3, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. To comply with the President's Management Agenda, we are participating as a partner in the Governmentwide Grants.gov Apply site. The Center on Response to Intervention, CFDA Number 84.326E, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Center on Response to Intervention at: http://www.Grants.gov. You must search for the downloadable application package for this program or competition by the CFDA number. Do not include the CFDA number's alpha suffix in your search (e.g., search for 84.326, not 84.326E).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete the steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of System Technical Issues with the Grant.Gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under For Further Information Contact and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.326E), 400 Maryland Avenue, SW., Washington, DC 20202-4260;

or

By mail through a commercial carrier: U.S. Department of Education, Application Control Center, Stop 4260, Attention: (CFDA Number 84.326E), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.326E), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Treating A Priority As Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they also have submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed measures that will yield information on various aspects of the Technical Assistance and Dissemination to Improve Services and Results for Children with Disabilities program. These measures, which will be used for this competition, focus on: The extent to which projects provide high quality products and services, the relevance of project products and services to educational and early intervention policy and practice, and the use of products and services to improve educational and early intervention policy and practice.

Grantees will be required to provide information related to these measures.

Grantees also will be required to report information on their projects' performance in annual reports to the Department (34 CFR 75.590).

VII. Agency Contact

For Further Information Contact: Grace Zamora Duran, Ed.D., U.S. Department of Education, 400 Maryland Avenue, SW., room 4088, Potomac Center Plaza, Washington, DC 20202-2550. Telephone: (202) 245-7328.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 15, 2007.
John H. Hager,
Assistant Secretary for Special Education and Rehabilitative Services.

[FR Doc. E7-5048 Filed 3-19-07; 8:45 am]

BILLING CODE 4000-01-P